DEPARTMENT OF VETERANS AFFAIRS

[OMB Control No. 2900-0853]

Agency Information Collection Activity: Application for Approval of a Program in a Foreign Country

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Comments must be received on or before August 25, 2025.

ADDRESSES: Comments must be submitted through www.regulations.gov.

FOR FURTHER INFORMATION CONTACT:

Program-Specific information: Kendra McCleave, 202-461-9568, kendra.mccleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology. This is a revision with a decreased burden which considers data for calendar year periods 2022, 2023 and 2024.

Title: Application for Approval of a Program in a Foreign Country, VA Form 22-0976.

OMB Control Number: 2900-0976. https://www.reginfo.gov/public/do/PRASearch (Once at this link, you can enter the OMB Control Number to find the historical versions of this Information Collection).

Type of Review: Revision of a currently approved collection.

Abstract: The VA will use the information collected to determine if a program in a foreign country is approvable under CFR 21.4260. In order for a review and decision to be made, the VA needs supporting information from a foreign educational institution.

After completing the form, foreign institutions will continue to download the VA Form 22-0976 from the GI Bill website and submit it via email to federal.approvals@va.gov.

Affected Public: Educational Institutions.

Estimated Annual Burden: 137 hours.

Estimated Average Burden per Respondent: 20 minutes.

Frequency of Response: Annually.

Estimated Number of Respondents: 412.

Authority: 44 U.S.C. 3501 et seq.

Dorothy Glasgow,
Acting, VA PRA Clearance Officer, Office of Enterprise and Integration/Data Governance Analytics, Department of Veterans Affairs.

[FR Doc. 2025-11656 Filed 6-24-25; 8:45 am]

BILLING CODE 8320-01-P